DEPARTMENT OF HEALTH AND HUMAN SERVICES

Administration for Community Living

Agency Information Collection Activities: Proposed Collection; Public Comment Request of the National Network of University Centers for Excellence in Developmental Disabilities Education, Research, and Service (UCEDDs) OMB Control Number 0985-0030

AGENCY: Administration for Community Living, Department of Health and Human Services.

ACTION: Notice.

SUMMARY: The Administration for Community Living (ACL) is announcing an opportunity for the public to comment on the proposed collection of information listed above. Under the Paperwork Reduction Act of 1995 (PRA), Federal agencies are required to publish a notice in the Federal Register concerning each proposed collection of information, including each proposed extension of an existing collection of information, and to allow 60 days for public comment in response to the notice. This Information Collection (IC) Revision solicits comments on the information collection requirements relating to the National Network of University Centers for Excellence in Developmental Disabilities Education, Research, and Service (UCEDDs).

DATES: Comments on the collection of information must be submitted electronically by 11:59 p.m. (EST) or postmarked by November 25, 2022.

ADDRESSES: Submit electronic comments on the collection of information to Pamela O'Brien at pamela.obrien@acl.hhs.gov. Submit written comments on the collection of information to Administration for Community Living, 330 C Street SW, Washington, DC 20201, Attention: Pamela O'Brien.

FOR FURTHER INFORMATION CONTACT: Pamela O'Brien, 202-795-7417 or pamela.obrien@acl.hhs.gov.

SUPPLEMENTARY INFORMATION: Under the PRA (44 U.S.C. 3501-3520), Federal agencies must obtain approval from the Office of Management and Budget (OMB) for each collection of information they conduct or sponsor. “Collection of information” is defined in 44 U.S.C. 3502(3) and 5 CFR 1320.3(c) and includes agency requests or requirements that members of the public submit reports, keep records, or provide information to a third party. The PRA requires Federal agencies to provide a 60-day notice in the Federal Register concerning each proposed collection of information, including each proposed extension of an existing collection of information, before submitting the collection to OMB for approval. To comply with this requirement, ACL is publishing a notice of the proposed collection of information set forth in this document.

With respect to the collection of information described below, ACL invites comments on our burden estimates or any other aspect of this collection of information, including:

(1) whether the proposed collection of information is necessary for the proper performance of ACL's functions, including whether the information will have practical utility;

(2) the accuracy of ACL's estimate of the burden of the proposed collection of information, including the validity of the methodology and assumptions used to determine burden estimates;

(3) ways to enhance the quality, utility, and clarity of the information to be collected; and

(4) ways to minimize the burden of the collection of information on respondents, including through the use of automated collection techniques when appropriate, and other forms of information technology.

Section 104 (a) (42 U.S.C. 15004) of the Developmental Disabilities Assistance and Bill of Rights Act of 2000 (DD Act) directs the Secretary of Health and Human Services to develop and implement a system of program accountability to monitor the grantees funded under the DD Act, including the UCEDDs. Section 154 (e) (42 U.S.C. 15064) of the DD Act includes requirements for the UCEDD Annual Report. The UCEDD Annual Report should contain information on progress made in achieving the projected goals of the Center for the previous year, including:

(1) The extent of goal achievement;

(2) A description of the strategies that contributed to achieving the goals;

(3) The extent goals were not achieved, a description of factors that impeded the achievement;

(4) An accounting of the manner in which funds paid to the Center . . . for a fiscal year were expended;

(5) Information on proposed revisions to the goals; and

(6) A description of successful efforts to leverage funds, other than funds made available under the DD Act.

The DD Act also states grantees must report on consumer satisfaction with:

(1) The advocacy, capacity building, and systemic change activities initiated by the UCEDD;

(2) The extent to which the UCEDD's advocacy, capacity building, and systemic change activities provided results through improvements; and

(3) The extent to which collaboration was achieved in the areas of advocacy, capacity building, and systemic change.

In addition to collecting the information required in the DD Act, this IC will also include elements needed to account for the activities supported by funding from the Centers for Disease Control and Prevention (CDC) to support access to vaccines for people with disabilities as well as the funds awarded under the American Rescue Plan Act to increase the Public Health Workforce (PHWF).

Finally, to ensure the UCEDD PPR is consistent with the Executive order on Advancing Racial Equity and Support for Underserved Communities Through the Federal Government and the Executive order on Advancing Equality for Lesbian, Gay, Bisexual, Transgender, Queer, and Intersex Individuals, ACL intends to determine whether the sexual orientation and gender identity (SOGI) data elements need to be adapted to ensure accessibility of the questions for individuals with intellectual and developmental disabilities.

The information collected from the UCEDDs is used for multiple purposes:

(1) To develop and submit at least every two years a report to the President, Congress, and the National Council on Disability that describes the goals and outcomes of programs supported under the DD Act.

(2) As a tool for UCEDD grantees to measure and report on progress in reaching goals and identify areas for which revisions are indicated;

(3) To enhance the Federal project officers' monitoring of UCEDD progress in reaching projected outcomes;

(4) As a set of performance measures that will yield a national portrait of UCEDD program impact; and

(5) For Congress and the Administration in making funding and appropriation decisions with regard to the UCEDD program.

ACL collects data via the National Information Reporting System (NIRS) a web-based system developed by the Association for University Centers on Disabilities (AUCD). The instrument guides the development of items to be included in NIRS for reporting purposes. The data collected in the PPR and submitted to ACL is also used to comply with the GPRA Modernization Act of 2010 (GPRAMA). Performance measure results are reported to Congress under GPRAMA.

The proposed data collection tools may be found on the ACL website for review at: https://www.acl.gov/about-acl/public-input.

Estimated Program Burden

Based on UCEDD reporting experience, current data and reporting efforts constitute approximately 1,556 burden hours per grantee for a total of 104,252 hours. The table below outlines the estimate for the hours of burden associated with the collection of information.

Estimated Total Annual Burden Hours: 104,252.

Respondent/data collection activity | Number of respondents | Responses per respondent | Hours per response | Annual burden hours
UCEDD Annual Report | 67 | 1 | 1,462 | 97,954
UCEDD CDC Report | 67 | 1 | 76 | 5,092
UCEDD PHWF Report | 67 | 1 | 18 | 1,206
Total | 67 | 1 | 1,556 | 104,252

The estimates in the following three tables were calculated using the mode for the hourly rate paid to individuals performing each task, a mean cost by task across UCEDDs, and a fringe rate of 100%. The three tables outline the estimated annual cost associated with the burden.

Updated to reflect 2021 Bureau of Labor Statistics—Occupational Employment and Wage Statistics.

1. Current UCEDD PPR Report
Current annual effort | # Hours dedicated to task: Mean | # Hours dedicated to task: Range | Hourly rate of task: Mean | Hourly rate of task: Range | Totals: Average effort per center | Totals: Across the network (average effort × 67 centers)
Design—data collect tools Computer Systems Analyst | 23 | 1-50 | $49.10 | $24-75 | 1,129.30 | 75,663.10
Staff training on data collection and entry Training & Development Manager | 60 | 20-110 | $57.56 | $29-71 | 3,453.6 | 231,391.2
Data gathering & verifying Computer User Support Specialist | 759 | 200-2,184 | 27.72 | $16-43 | $21,039.48 | 1,409,645.16
Data entry & cleaning Computer User Support Specialist | 630 | 380-820 | 27.72 | $16-43 | 17,463.60 | $1,170,061.2
Subtotal | 1,462 | 728-2,706 | $162.10 |  | $43,085.98 | $2,886,760.66
Fringe Rate 100% |  |  |  |  | $43,085.98 | $2,886,760.66
Total Current Burden | 1462 |  |  |  | $82,845.56 | $5,773,521.20

2. Supplemental Centers for Disease Control (CDC)
Current annual effort | # Hours dedicated to task: Mean | # Hours dedicated to task: Range | Hourly rate of task: Mean | Hourly rate of task: Range | Totals: Average effort per center | Totals: Across the network (average effort × 67 centers)
Design of data tools Computer Systems Analyst | 20 | 1-50 | $49.10 | $24-75 | 982 | 65,794
Staff train-data collection Training & Development Manager | 26 | 20-40 | $57.56 | $29-71 | 1,496.56 | $100,269.52
Data gathering & verifying Computer User Support Specialist | 15 | 200-2,184 | $27.72 | $16-43 | 415.8 | $27,858.6
Data entry & cleaning Computer User Support Specialist | 15 | 380-820 | 27.72 | $16-43 | 415.8 | $27,858.6
Subtotal | 76 | 728-2,706 | $162.10 |  | $3,310.16 | 221,778.72
Fringe Rate 100% |  |  |  |  | $3,310.16 | 221,778.72
Total Current Burden | 76 |  |  |  |  |

3. Supplemental Public Health Workforce
Current annual effort | # Hours dedicated to task: Mean | # Hours dedicated to task: Range | Hourly rate of task: Mean | Hourly rate of task: Range | Totals: Average effort per center | Totals: Across the network (average effort × 67 centers)
Design of data tools Computer Systems Analyst | 4 | 1-50 | $49.10 | $24-75 | 196.4 | 13,158.80
Staff train-data collection Training & Development Manager | 6 | 20-40 | $57.56 | $29-71 | 345.36 | 23,139.12
Data gathering & verifying Computer User Support Specialist | 4 | 200-2,184 | $27.72 | $16-43 | 110.88 | $7,428.96
Data entry & cleaning Computer User Support Specialist | 4 | 380-820 | 27.72 | $16-43 | 110.88 | $7,428.96
Subtotal | 18 | 728-2,706 | 162.10 |  | $763.52 | $51,155.84
Fringe Rate 100% |  |  |  |  | $763.52 | $51,155.84
Total Current Burden | 18 |  |  |  |  |

The above figures related to the percentage of hours dedicated to different tasks were developed from information gathered by the UCEDD technical assistance provider for the previous data information collection request.

Date: September 20, 2022.
Alison Barkoff,
Acting Administrator and Assistant Secretary for Aging.

[FR Doc. 2022-20797 Filed 9-23-22; 8:45 am]

BILLING CODE 4154-01-P